DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 327 and the United States Fish and Wildlife Service (USFWS).

SUMMARY: The FHWA, on behalf of Caltrans, is issuing this notice to announce actions taken by Caltrans and USFWS that are final within the meaning of 23 U.S.C. 139(l)(1). The actions relate to a proposed highway project (US 101) and local road extension (Union Valley Parkway), in the community of Orcutt and City of Santa Maria in the County of Santa Barbara, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before October 6, 2009. If the Federal law that authorizes judicial review of a claim provides a time period of less than 180 days for filing such claim, then that shorter time period still applies.

FOR FURTHER INFORMATION CONTACT: For Caltrans: Matt Fowler, Chief, Environmental Branch, Caltrans, 50 Higuera Street, San Luis Obispo, CA 93401 Monday through Friday 8 a.m. to 5 p.m. (805) 542-4603 or matt_c_fowler@dot.ca.gov. For USFWS: Steve Kirkland, USFWS, 2493 Portola Road, Suite B, Ventura, CA 93003 Monday through Friday 7:30 a.m. to 4 p.m. (805) 644-1766 or steve_kirkland@fws.gov.

SUPPLEMENTARY INFORMATION: Effective July 1, 2007, the Federal Highway Administration (FHWA) assigned, and the California Department of Transportation (Caltrans) assumed, environmental responsibilities for this project pursuant to 23 U.S.C. 327. Notice is hereby given that the Caltrans and USFWS have taken final agency actions subject to 23 U.S.C. 139(l)(1) by issuing licenses, permits, and approvals for the following highway project in the State of California: The project is located in the County of Santa Barbara in the community of Orcutt. The project includes the extension of Union Valley Parkway west over a 1.6-mile segment between Hummel Drive on the east and Blosser Road on the west, and the extension of Union Valley Parkway east to intersect with Highway 101 by constructing an overcrossing with north- and southbound freeway ramps. Construction of the interchange portion of the project will occur between Post Mile 83.1 and 83.9 on Highway 101. The project purpose is to provide a major arterial and improved access to Highway 101 for the movement of people and goods through the Santa Maria-Orcutt area. The actions by the Federal agencies, and the laws under which such actions were taken, are described in the Environmental Assessment/Finding of No Significant Impact (EA/FONSI) for the project, approved on March 5, 2009 and in other documents in the FHWA project records. The EA/FONSI and other project records are available by contacting Caltrans at the addresses provided above. The Caltrans EA/FONSI can be viewed and downloaded from the project web site at http://www.dot.ca.gov/dist05/projects/sb_uvp/index.html, or viewed at public libraries in the project area. The USFWS decision and Section 7 Consultation are available by contacting USFWS at the address provided above. This notice applies to all Federal agency decisions as of the issuance date of this notice and all laws under which such actions were taken, including but not limited to:

1. General: National Environmental Policy Act (NEPA) [42 U.S.C. 4321-4351]; Federal-Aid Highway Act [23 U.S.C. 109].

2. Air: Clean Air Act 42 U.S.C. 7401-7671(q).

3. Wildlife: Endangered Species Act [16 U.S.C. 1531-1544 and Section 1536], Fish and Wildlife Coordination Act [16 U.S.C. 661-667(d)]. Migratory Bird Treaty Act [16 U.S.C. 703-712].

4. Historic and Cultural Resources: Section 106 of the National Historic Preservation Act of 1966, as amended [16 U.S.C. 470(aa)-11]; Archeological and Historic Preservation Act [16 U.S.C. 469-469(c)]; Native American Grave Protection and Repatriation Act (NAGPRA) [25 U.S.C. 3001-3013]; U.S. Department of Transportation Act of 1966 [49 U.S.C. 303 Section 4(f)].

5. Social and Economic: Civil Rights Act of 1964 [42 U.S.C. 2000(d)-2000(d)(1)]; American Indian Religious Freedom Act [42 U.S.C. 1996]; Farmland Protection Policy Act (FPPA) [7 U.S.C. 4201-4209]; The Uniform Relocation Assistance and Real Property Acquisition Policies Act of 1970, as amended.

6. Hazardous Materials: Comprehensive Environmental Response, Compensation, and Liability Act (CERCLA), 42 U.S.C. 9601-9675; Superfund Amendments and Reauthorization Act of 1986 (SARA); Resource Conservation and Recovery Act (RCRA), 42 U.S.C. 6901-6992(k).

7. Physical Environment: Clean Water Act [33 U.S.C. 1344]

8. Executive Orders: E.O. 11990 Protection of Wetlands; E.O. 11988 Floodplain Management; E.O. 12898, Federal Actions to Address Environmental Justice in Minority Populations and Low Income Populations; E.O. 11593 Protection and enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1)

Issued on: April 3, 2009.
Cindy Vigue,
Director, State Programs, Federal Highway Administration, Sacramento, California.

[FR Doc. E9-8073 Filed 4-8-09; 8:45 am]

BILLING CODE 4910-RY-P